AGENCY FOR INTERNATIONAL DEVELOPMENT

Notice of Meeting; Board for International Food and Agricultural Development

Pursuant to the Federal Advisory Committee Act, notice is hereby given of the public meeting of the Board for International Food and Agricultural Development (BIFAD). The meeting will be held from 9:30 a.m. to 1:00 p.m. EDT on Wednesday, September 12, 2018, at the Murrow/White/Lisagor Room, 13th Floor, National Press Club, 529 14th Street NW, Washington, DC. Participants may attend in person or join via livestream. The link to the global live stream as well as registration information can be found on BIFAD's home page and online at http://www.aplu.org/projects-and-initiatives/international-programs/bifad/bifad-meetings.html.

The central theme of this public meeting will be the new Feed the Future Learning Agenda which builds on the first Feed the Future Learning Agenda launched in 2012. Dr. Mark Keenum, BIFAD Chair, will preside over the public business meeting, which will begin promptly at 9:30 a.m. EDT with opening remarks. At this meeting the Board will address old and new business. Old business will include an update on a study commissioned by BIFAD and USAID on U.S. benefits and capabilities leveraged from strategic USAID investments in developing country agriculture and food security by Dr. Joseph Glauber, Senior Research Fellow at the International Food Policy Research Institute (IFPRI). After this, the Board will then engage in a dialogue and provide feedback on the Feed the Future Learning Agenda.

Through the Learning Agenda, the U.S. Government seeks to improve the effectiveness and efficiency of the Feed the Future initiative by generating, synthesizing, communicating and applying evidence related to key questions. Evidence from the Learning Agenda will inform the design of Feed the Future-related strategies, programs, projects and activities. The Learning Agenda will also serve to address requirements laid out in section 8(a)(14) of the Global Food Security Act on sharing lessons learned from implementation of the Global Food Security Strategy.

This Feed the Future Learning Agenda will focus on eight areas: (1) Gender and women's empowerment, (2) Market systems, (3) Policy systems, (4) Nutrition, (5) Risk and resilience, (6) Youth, (7) Water and Water Sanitation and Hygiene (WASH), and (8) Scaling technologies and practices. These areas reflect work and research being carried out under the Feed the Future initiative. Analytical outputs from the work in these areas will feed into the answering Learning Agenda questions. BIFAD is taking this opportunity to welcome public input on these focus areas, the types of questions to be examined, and research under way that might help contribute.

Beginning at 12:30 p.m. EDT, Chairman Keenum will moderate a half-hour public comment period. The public meeting will adjourn at 1:00 p.m. EDT with Dr. Keenum's closing remarks.

Those wishing to attend the meeting or obtain additional information about BIFAD should contact Clara Cohen, Designated Federal Officer for BIFAD in the Bureau for Food Security at USAID. Interested persons may write to her in care of the U.S. Agency for International Development, Ronald Reagan Building, Bureau for Food Security, 1300 Pennsylvania Avenue NW, Washington, DC 20523-2110 or telephone her at (202) 712-0119.

Clara Cohen,
Designated Federal Officer, BIFAD, Bureau for Food Security, U.S. Agency for International Development.

[FR Doc. 2018-18084 Filed 8-21-18; 8:45 am]

BILLING CODE P